DEPARTMENT OF COMMERCE

Foreign-Trade Zones Board

[Docket 17-2003]

Foreign-Trade Zone 193—Pinellas County, FL, Expansion of Manufacturing Authority-Subzone 193A, Cardinal Health 409, Inc. (Gelatin Capsules/Pharmaceutical Products); Pinellas County, FL

An application has been submitted to the Foreign-Trade Zones Board (the Board) by the Pinellas County Board of County Commissioners, grantee of FTZ 193, requesting to expand the scope of manufacturing authority under zone procedures within Subzone 193A, at the Cardinal Health 409, Inc. (formerly R.P. Scherer Corporation) facilities in the St. Petersburg/Clearwater area (Pinellas County), Florida. It was formally filed on March 27, 2003.

Subzone 193A was approved by the Board in 2000 at 4 sites (42.1 acres) in the St. Petersburg/Clearwater area (Pinellas County), with authority granted for the manufacture of soft gelatin capsules and certain pharmaceutical products (Board Order 1117, 65 FR 54196, 9/7/2000).

Subzone 193A (754 employees) is currently requesting to expand the scope of authority for manufacturing activity conducted under FTZ procedures to include the manufacture of a new anti-AIDS drug, using foreign and domestic ingredients. The foreign ingredient is classified under HTSUS 2935.00.4800 and has a 7.4% duty rate. The finished product is classified under HTSUS 3004.70.9010 and is duty-free. Cardinal will be finishing and encapsulating the finished drug under contract for a pharmaceutical company, which would then use the drug in clinical trials.

Zone procedures would exempt Cardinal from Customs duty payments on foreign materials used in production for export. On domestic shipments, the company would be able to defer Customs duty payments on foreign materials, and to choose the duty rate that applies to finished products (duty-free) instead of the rate otherwise applicable to the foreign input material (7.4%). The application indicates that the savings from zone procedures would help improve Cardinal's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is May 30, 2003. Rebuttal comments in response to material submitted during the foregoing period may be submitted during the subsequent 15-day period (to April 30, 2003).

A copy of the request will be available for public inspection at the Office of the Foreign-Trade Zones Board's Executive Secretary at address Number 1 listed above.

Dated: April 8, 2003.
Dennis Puccinelli,
Executive Secretary.

[FR Doc. 03-9205 Filed 4-14-03; 8:45 am]

BILLING CODE 3510-DS-P